DEPARTMENT OF THE INTERIOR

Bureau of Land Management

[LLCO956000 L71300000.BJ0000 LVTSC1600100 16X]

Notice of Filing of Plats of Survey; Colorado

AGENCY: Bureau of Land Management, Interior.

ACTION: Notice of filing of plats of survey; Colorado.

SUMMARY: The Bureau of Land Management (BLM) Colorado State Office is publishing this notice to inform the public of the official filing of the survey plat listed below. The plat will be available for viewing in the BLM Colorado State Office.

DATES: The plat described in this notice was filed on November 4, 2016.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The supplemental plat in Township 11 South, Range 69 West, Sixth Principal Meridian, Colorado, was accepted on October 27, 2016, and filed on November 4, 2016.

Randy A. Bloom,
Chief Cadastral Surveyor for Colorado.

[FR Doc. 2016-27270 Filed 11-10-16; 8:45 am]

BILLING CODE 4310-JB-P